FEDERAL EMERGENCY MANAGEMENT AGENCY

44 CFR Part 67

[Docket No. FEMA-D-7544]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. *Elevation in feet (NGVD) • Elevation in feet (NAVD): Existing | # Depth in feet above ground. *Elevation in feet (NGVD) • Elevation in feet (NAVD): Modified | Communities affected
Alabama
Montgomery County (Unincorporated Areas) and City of Montgomery
Baldwin Slough | At the confluence with Catoma Creek | *182 | *181 | City of Montgomery.
| Approximately 600 feet upstream of Vaughn Road | None | *235
Catoma Creek | Just upstream of Trotman Road | *214 | *216 | Montgomery County (Unincorporated Areas).
| Approximately 12.5 miles upstream of Trotman Road | None | *247
Catoma Creek Tributary 1 | Approximately 550 feet downstream of the most downstream crossing of Troy Highway | *203 | *204 | City of Montgomery, Montogomery County (Unincorporated Areas).
| Approximately 2.9 miles upstream of the most upstream crossing of Troy Highway | None | *233
Catoma Creek Tributary 1 Branch 1 | At the confluence with Catoma Creek Tributary 1 | None | *206 | City of Montgomery.
| Approximately 1.5 miles upstream of the confluence with Catoma Creek Tributary 1 | None | *223
Catoma Creek Tributary 1 Branch 2 | At confluence with Catoma Creek Tributary 1 | None | *208 | City of Montgomery.
| Approximately 1.7 miles upstream of confluence with Catoma Creek Tributary 1 | None | *234
Catoma Creek Tributary 1 and Branch 3 | At confluence with Catoma Creek Tributary 1 | None | *212 | City of Montgomery.
| Approximately 1.4 miles upstream of the confluence with Catoma Creek Tributary 1 | None | *235
Dry Creek | Approximately 200 feet downstream of Troy Highway | None | *247 | Montgomery County (Unincorporated Areas).
| Approximately 0.9 mile upstream of Canty Road | None | *271
Jenkins Creek | Just upstream of CSX Transportation | None | *208 | City of Montgomery, Montgomery County (Unincorporated Areas).
| Approximately 100 feet upstream of Vaughn Road | None | *222
Little Catoma Creek | Approximately 1.25 miles upstream of Troy Highway | None | *220 | Montgomery County (Unincorporated Areas).
| Just upstream of Old Hayneville Road | None | *268
Little Catoma Creek Tributary 1 | Approximately 300 feet upstream from the confluence with Little Catoma Creek | None | *220 | Montgomery County (Unincorporated Areas).
| Approximately 50 feet upstream of Old Pike Road | None | *259
Millies Creek | Just upstream of CSX Transportation | None | *215 | Montgomery County (Unincorporated Areas), City of Montgomery.
| Approximately 50 feet upstream of Wallahatchie Road | None | *238
Oliver Creek | Approximately 0.8 mile downstream of CSX Transportation | *174 | *173 | City of Montgomery.
| Approximately 100 feet upstream of Interstate Route 85 | None | *237
Montgomery County (Unincorporated Areas)
Maps available for inspection at the Montgomery County Engineering Department, 3152 Rolling Road Circle, Montgomery, Alabama.
Send comments to Mr. Bill Joseph, Chairman of the Montgomery County Commission, P.O. Box 1667, Montgomery, Alabama 36102.
City of Montgomery
Maps available for inspection at the Montgomery City Hall, 103 North Perry, Montgomery, Alabama.
Send comments to The Honorable Bobby Bright, Mayor of the City of Montgomery, City Hall, P.O. Box 1111, Montgomery, Alabama 36101.
Beaufort County, North Carolina (Unincorporated Areas)
Acre Swamp | At the confluence with Pungo Swamp | None | •20 | Beaufort County (Unincorporated Areas)
| Approximately 0.6 mile upstream of confluence with Fork Swamp | None | •28
Back Creek | Approximately 1.9 miles upstream of State Route 92 | None | •9 | Beaufort County (Unincorporated Areas).
| Approximately 3.0 miles upstream of State Route 92 | None | •10
Bailey Creek | Approximately 1.1 mile upstream of State Route 306 | None | •9 | Beaufort County (Unincorporated Areas).
| Approximately 150 feet upstream of railroad | None | •12
Blounts Creek | At the upstream side of the railroad | •16 | •15 | Beaufort County (Unincorporated Areas).
| Approximately 1.7 miles upstream of the railroad | None | •23
Broomfield Swamp Creek | Approximately 200 feet downstream of Broome Road | None | •7 | Beaufort County (Unincorporated Areas), Town of Aurora.
| Approximately 0.4 mile upstream of Broome Road | None | •11
Cypress Run | At the upstream side of Idalia Road | None | •10 | Beaufort County (Unincorporated Areas).
| Approximately 0.8 mile upstream of Idalia Road | None | •14
Duck Creek | Approximately 0.4 mile upstream of Hawkins Beach Road | None | •9 | Beaufort County (Unincorporated Areas).
| Approximately 200 feet upstream of Camp Leach Road | None | •9
Durham Creek | Approximately 1.2 miles downstream of Durham Creek Road | None | •8 | Beaufort County (Unincorporated Areas).
| Approximately 0.8 mile upstream of Walker Road | None | •37
Durham Creek Tributary | At the confluence with Durham Creek | None | •12 | Beaufort County (Unincorporated Areas).
| Approximately 50 feet downstream of Durham Creek Road | •16 | •15
Durham Creek Tributary 2 | At the confluence with Durham Creek | None | •21 | Beaufort County (Unincorporated Areas).
| Approximately 1,875 feet upstream of Fork Road | None | •27
Fork Swamp | At the confluence with Acre Swamp | None | •28 | Beaufort County (Unincorporated Areas).
| Approximately 0.5 mile upstream of the railroad | None | •35
Gum Swamp Run East | Approximately 0.4 mile upstream of confluence with South Creek | None | •7 | Beaufort County (Unincorporated Areas).
| Approximately 100 feet downstream of Bay City Road | None | •9
Harvey Creek | At the upstream side of Interstate Route 264 | None | •19 | Beaufort County (Unincorporated Areas).
| Approximately 1.0 mile upstream of Interstate Route 264 | None | •25
Herring Run | Approximately 100 feet downstream of Herring Run Road | None | •10 | Beaufort County (Unincorporated Areas).
| Approximately 1.0 mile upstream of Gore Point Road | None | •17
Porter Creek | Approximately 0.9 mile downstream of Louden Road | None | •8 | Beaufort County (Unincorporated Areas).
| Approximately 100 feet downstream of Gray Road | None | •16
Poundpole Swamp Branch | At the confluence with Blounts Creek | None | •15 | Beaufort County (Unincorporated Areas).
| Approximately 0.6 mile upstream of Little Egypt Road | None | •33
Pungo Swamp | Approximately 0.5 mile upstream of Jones Bridge Road | None | •12 | Beaufort County (Unincorporated Areas).
| Approximately 100 feet upstream of State Route 32 | None | •25
Rowland Creek | Approximately 100 feet upstream of Post Road | None | •9 | Beaufort County (Unincorporated Areas).
| Approximately 2,000 feet upstream of Jackson Swamp Road | None | •11
South Creek | Approximately 1,800 feet upstream of the confluence with Cypress Run | None | •7 | Beaufort County (Unincorporated Areas).
| Approximately 2.7 miles upstream of the confluence with Cypress Run | None | •15
Tankard Creek | Approximately 100 feet upstream of Boyd Loop Road | None | •13 | Beaufort County (Unincorporated Areas).
| Approximately 1.2 miles upstream of Boyd Loop Road | None | •18
Upper Broad Creek | At the confluence with Durham Creek | •27 | •26 | Beaufort County (Unincorporated Areas).
| At the County boundary | None | •31
Whitehurst Creek | Approximately 0.9 mile upstream of State Route 306 | None | •7 | Beaufort County (Unincorporated Areas).
| Approximately 0.5 mile upstream of Brantely Swamp Road | None | •11
Pamlico River/Pamlico Sound/Atlantic Ocean | In the vicinity of the intersection of Austin Road and Cypress Swamp Road | None | •7 | Beaufort County (Unincorporated Areas).
Atlantic Ocean/Pamlico Sound | At the intersection of 9th Street and Boston Avenue | •9 | •10 | City of Washington.
Bear Creek | At the upstream side of State Route 33 | None | •27 | Beaufort County (Unincorporated Areas).
| Approximately 650 feet downstream of Hodges Road | None | •35
Bear Grass Swamp | At the confluence with Tranters Creek | None | •31 | Beaufort County (Unincorporated Areas).
| Approximately 1,000 feet upstream of the confluence with Turkey Swamp | None | •31
Beaverdam Swamp | Approximately 50 feet upstream of Slatestone Road | None | •37 | Beaufort County (Unincorporated Areas).
| Approximately 1.0 mile upstream of Slatestone Road | None | •46
Big Swamp | Approximately 50 feet upstream of Market Street Ext. | None | •31 | Beaufort County (Unincorporated Areas).
| Approximately 1,000 feet upstream of J and W Tram Road | None | •44
Broad Creek | At Broad Creek Road | •9 | •10 | Beaufort County (Unincorporated Areas).
| Approximately 1.3 miles upstream of Broad Creek Road | •9 | •10
Broad Creek Tributary | At the upstream side of Lizard Slip Road | •14 | •15 | Beaufort County (Unincorporated Areas).
| Approximately 1.4 miles upstream of Old Bath Highway | •28 | •31
Chicod Creek | Approximately 0.9 mile downstream of Dixon Road | None | •31 | Beaufort County (Unincorporated Areas).
| At the confluence of Juniper Swamp | None | •43
Chocowinity Creek | Approximately 450 feet downstream of the confluence of Morris Run | None | •22 | Beaufort County (Unincorporated Areas).
| Approximately 3.7 miles upstream of the confluence of Morris Run | None | •40
Cindy Edwards Branch | At the upstream side of State Route 33 | None | •17 | Beaufort County (Unincorporated Areas).
| Approximately 1.0 mile upstream of State Route 33 | None | •24
Creeping Swamp | Approximately 0.7 mile downstream of State Route 102 | None | •34 | Beaufort County (Unincorporated Areas).
| At the County boundary | None | •48
Gum Swamp | At the upstream side of U.S. Interstate 17 | None | •38 | Beaufort County (Unincorporated Areas).
| Approximately 650 feet downstream of County boundary | None | •42
Gum Swamp Run West | Approximately 300 feet upstream of the confluence with Morris Run | None | •26 | Beaufort County (Unincorporated Areas).
| Approximately 1.5 miles upstream of the confluence with Morris Run | None | •32
Hall Swamp | Approximately 50 feet upstream of Slatestone Road | None | •37 | Beaufort County (Unincorporated Areas).
| Approximately 150 feet downstream of Bluebird Lane | None | •39
Harding Swamp | At the confluence with Juniper Swamp | None | •43 | Beaufort County (Unincorporated Areas).
| Approximately 0.7 mile upstream of the confluence of Juniper Swamp | None | •47
Hills Creek | At the downstream side of Gilead Shores Road | None | •10 | Beaufort County (Unincorporated Areas).
| Approximately 0.8 mile upstream of Gilead Shores Road | None | •13
Horse Branch | At the confluence with White Branch | None | •14 | Beaufort County (Unincorporated Areas).
| At Gray Road | None | •18
Horsepen Swamp | At the confluence with Tranters Creek | None | •16 | Beaufort County (Unincorporated Areas).
| Approximately 1.4 miles upstream of Wards Bridge Road | None | •40
Joe Branch | At the upstream side of Possum Track Road | None | •43 | Beaufort County (Unincorporated Areas).
| Approximately 1,500 fee upstream of Possum Track Road | None | •45
Maple Branch | At the upstream side of U.S. Highway 264 | •14 | •11 | Beaufort County (Unincorporated Areas), City of Washington.
| Approximately 0.6 mile upstream of Farm Path | None | •21
Mitchell Branch | At U.S. Highway 264 | •12 | •14 | Beaufort County (Unincorporated Areas), City of Washington.
| Approximately 160 feet upstream of Cherry Run Road | None | •21
Morris Run | At the confluence with Chocowinity Creek | None | •22 | Beaufort County (Unincorporated Areas).
| Approximately 1.8 miles upstream of State Route 33 | None | •32
Old Ford Swamp | Approximately 1,250 feet downstream of Calf Branch Road | •25 | •26 | Beaufort County (Unincorporated Areas).
| Approximately 0.7 mile upstream of Calf Branch Road | None | •36
Pinelog Branch | At the confluence with Tranters Creek | None | •29 | Beaufort County (Unincorporated Areas).
| Approximately 0.8 mile upstream of Cherry Run Road | None | •30
Pineygrove Branch | Approximately 100 feet upstream of Corsica Road | None | •27 | Beaufort County (Unincorporated Areas), City of Washington.
| Approximately 2,000 feet upstream of Singleton Road | None | •33
Snoad Branch | Approximately 600 feet downstream of Voa Road | •18 | •19 | Beaufort County (Unincorporated Areas).
| Approximately 1.4 miles upstream of Voa Road | None | •33
Tranters Creek | Approximately 1,600 feet upstream of the confluence with Maple Branch | None | •11 | Beaufort County (Unincorporated Areas).
| At the confluence of Bear Grass Swamp | None | •31
White Branch | At the confluence with Chocowinity Creek | •11 | •12 | Beaufort County (Unincorporated Areas).
| At the downstream side of Gray Road | None | •16
•North American Vertical Datum.
Town of Aurora
Maps available for inspection at the Aurora Town Hall, 295 Main Street, Aurora, North Carolina.
Send comments to The Honorable Joe Hooker, Mayor of the Town of Aurora, P.O. Box 86, Aurora, North Carolina 27806.
Beaufort County (Unincorporated Areas)
Maps available for inspection at the Beaufort County Building Inspection, 220 North Market Street, Washington, North Carolina.
Send comments to Mr. Donald Davenport, Beaufort County Manager, P.O. Box 1027, Washington, North Carolina 27889.
City of Washington
Maps available for inspection at the City of Washington Building Inspection Department, 102 East Second Street, North Carolina.
Send comments to Mr. R.L. Willoughby, Washington City Manager, P.O. Box 1988, Washington, North Carolina 27889.

(Catalog of Federal Domestic Assistance No. 83.100, “Flood Insurance.”)
Dated: October 30, 2002.
Anthony S. Lowe,
Administrator, Federal Insurance and Mitigation Administration.

[FR Doc. 02-27969 Filed 11-01-02; 8:45 am]

BILLING CODE 6718-04-P